DEPARTMENT OF COMMERCE

National Telecommunications and Information Administration

Proposed Information Collection; Comment Request; NTIA/FCC Web-Coordination Collection

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 30, 2007.

ADDRESSES: Direct all written comments to Diana Hynek, Departmental Paperwork Clearance Officer, U.S. Department of Commerce, Room 6625, 14th and Constitution Avenue, NW., Washington, DC 20230 (or via the Internet at dHynek@doc.gov).

FOR FURTHER INFORMATION CONTACT: Requests for additional information or copies of the information collection instrument and instructions should be directed to: Steve Litts, Technology Speciality, Systems Development Branch, Office of Spectrum Management, National Telecommunications and Information Administration, U.S. Department of Commerce, Room 4096, 14th and Constitution Avenue, NW., Washington DC 20230 (or via the Internet at Slitts@ntia.doc.gov).

SUPPLEMENTARY INFORMATION:

I. Abstract

The National Telecommunications and Information Administration (NTIA) developed a web-based system that collects specific identification information (e.g., company name, location and projected range of the operation) from applicants seeking to operate in existing and planned radio frequency (RF) bands that are shared on a co-primary basis by federal and non-federal users. The web-based system provides a means for non-federal applicants to rapidly determine the availability of RF spectrum in a specific location, or the need for detailed frequency coordination of a specific newly proposed assignment within the shared portions of the radio spectrum. The website allows the non-federal applicant's proposed radio site information to be analyzed, and a real-time determination to be made as to whether there is a potential for interference to, or from, existing Federal government radio operations in the vicinity of the proposed site. This web-based coordination system helps expedite the coordination process for non-federal applicants while assuring protection of government data relating to national security. The information provided by non-federal applicants also assures the protection of the applicant's station from radio frequency interference from future government operations.

The non-federal applicants are required to submit information regarding the physical characteristics of the proposed radio station and the proposed location of the operation. This information is necessary for a determination of electromagnetic compatibility among radio stations in the frequency band. The name and address of the proposed licensee is also required, as currently required by the Federal Communications Commission. All data requested on the website is currently required for the coordination of non-federal radio stations in RF spectrum that is shared with the federal government.

II. Method of Collection

The application and instructions are on the NTIA website. Non-federal applicants submit applications electronically through the Web site.

III. Data

OMB Number: 0660-0018.

Form Number: None.

Type of Review: Regular submission.

Affected Public: Business or other for-profit organizations, state or local government.

Estimated Number of Respondents: 3,000.

Estimated Time Per Response: 15 minutes.

Estimated Total Annual Respondent Burden Hours: 750.

Estimated Total Annual Respondent Cost Burden: $0.

Legal Authority: 47 U.S.C. 902(b)(2)(L)(ii).

IV. Request for Comments

Comments are invited on: (a) Whether the information will have practical utility; (b) the accuracy of the agency's estimate of the burden of the proposed information collection; (c) ways to enhance the quality, utility, and clarity of the information to be collected; and (d) ways to minimize the burden of the collection of information on respondents, including the use of automated collection techniques or other forms of information technology.

Comments submitted in response to this notice will be summarized or included in the request for OMB approval of this information collection; they also will become a matter of public record.

Dated: May 23, 2007.
Gwellnar Banks,
Management Analyst, Office of the Chief Information Officer.

[FR Doc. E7-10344 Filed 5-29-07; 8:45 am]

BILLING CODE 3510-60-P